DEPARTMENT OF EDUCATION

[Docket No.: ED-2020-SCC-0128]

Agency Information Collection Activities; Comment Request; CARES Act Maintenance of Effort (MOE)

AGENCY: Office of Elementary and Secondary Education (OESE), Department of Education (ED).

ACTION: Notice

SUMMARY: In accordance with the Paperwork Reduction Act of 1995, ED is requesting the Office of Management and Budget (OMB) to conduct an emergency review of a new information collection

DATES: Approval by the OMB has been requested by before August 7, 2020. A regular clearance process is also hereby being initiated. Interested persons are invited to submit comments on or before October 5, 2020.

ADDRESSES: To access and review all the documents related to the information collection listed in this notice, please use http://www.regulations.gov by searching the Docket ID number ED-2020-SCC-0128. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-8240.

FOR FURTHER INFORMATION CONTACT: For specific questions related to collection activities, please contact Tara Ramsey, 202-260-2063.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: CARES Act Maintenance of Effort (MOE).

OMB Control Number: 1810-NEW.

Type of Review: A new information collection.

Respondents/Affected Public: State, Local and Tribal Organizations.

Total Estimated Number of Annual Responses: 56.

Total Estimated Number of Annual Burden Hours: 280.

Abstract: This is a request for approval of a new emergency information collection that would solicit from States, Outlying Areas, and State educational agencies (SEAs) maintenance of effort (MOE) data under section 18008 of the CARES Act. Under four programs—the Governor's Emergency Education Relief Fund (GEER Fund, Section 18002) and the Elementary and Secondary School Emergency Relief Fund (ESSER Fund, Section 18003) and two formula grant programs to the Outlying Areas authorized under Section 18001(a)(1), Education Stabilization Fund-State Educational Agencies (ESF-SEA) and Education Stabilization Fund-Governors (ESF-Governor)—States are required to maintain fiscal effort on behalf of elementary, secondary and postsecondary education. Recipients of the resources from the ESSER Fund, the GEER Fund, the ESF-SEA Fund, and the ESF-Governor Fund have signed Certifications and Agreements, in which they agree to abide by the provisions of the CARES Act, including MOE requirements. The Department is requesting an emergency clearance to meet the requirements of the CARES Act and ensure that States and Outlying Areas are meeting the MOE requirement. In the publication of frequently asked questions regarding the Maintenance of Effort requirement, ED issued guidance and a sample form for States and Outlying Areas to submit this statutorily required data.

Additional Information: An emergency clearance approval for the use of the system is described below due to the following conditions. If this collection is not allowed to proceed, the Department will not be able to fulfill the mandates of the CARES Act, and properly monitor that States and Outlying Areas maintain the level of support for elementary and secondary education, and State and Outlying Areas support for higher education in fiscal years 2020 and 2021 as agreed to in the GEER Fund, ESSER Fund and ESF-SEA Fund, and ESF-Governor Fund Certifications and Agreements.

Dated: August 3, 2020.
Kate Mullan,
PRA Coordinator, Strategic Collections and Clearance Governance and Strategy Division, Office of Chief Data Officer, Office of Planning, Evaluation and Policy Development.

[FR Doc. 2020-17157 Filed 8-5-20; 8:45 am]

BILLING CODE 4000-01-P